DEPARTMENT OF JUSTICE

Office of Juvenile Justice and Delinquency Prevention

[OJP (OJJDP) Docket No. 1507]

Office of Juvenile Justice and Delinquency Prevention Proposed Plan for Fiscal Year 2010

AGENCY: Office of Juvenile Justice and Delinquency Prevention, Office of Justice Programs, Department of Justice.

ACTION: Notice of Proposed Plan for Fiscal Year 2010.

SUMMARY: The Office of Juvenile Justice and Delinquency Prevention is publishing this notice of its Proposed Plan for fiscal year (FY) 2010.

DATES: Comments must be received on or before January 15, 2010.

ADDRESSES: You may submit comments electronically or view an electronic version of this proposed plan at http://www.regulations.gov. You may also mail comments to Jeff Slowikowski, Acting Administrator, Office of Juvenile Justice and Delinquency Prevention, 810 Seventh Street, NW., Washington, DC 20531. To ensure proper handling, in the lower left hand corner of the envelope and in your correspondence clearly reference “Proposed OJJDP Program Plan Comments” or “OJP Docket No. 1507.”

FOR FURTHER INFORMATION CONTACT: The Office of Juvenile Justice and Delinquency Prevention at 202-307-5911. [This is not a toll-free number.]

SUPPLEMENTARY INFORMATION:

I. Posting of Public Comments

Please note that all comments received are considered part of the public record and made available for public inspection online at http://www.regulations.gov. Such information includes personal identifying information (such as name and address) voluntarily submitted by the commenter.

If you wish to submit personal identifying information (such as your name, address, etc.) as part of your comment, but do not wish for it to be posted online, you must include the phrase “PERSONAL IDENTIFYING INFORMATION” in the first paragraph of your comment. You also must locate all the personal identifying information you do not wish to be posted online in the first paragraph of your comment and identify what information you would like redacted.

If you wish to submit confidential business information as part of your comment but do not wish for it to be posted online, you must include the phrase “CONFIDENTIAL BUSINESS INFORMATION” in the first paragraph of your comment. You also must prominently identify confidential business information to be redacted within the comment. If a comment has so much confidential business information that it cannot be effectively redacted, all or part of that comment may not be posted on http://www.regulations.gov.

Personal identifying information and confidential business information identified and located as set forth above will be placed in the agency's public docket file, but not posted online. If you wish to inspect the agency's public docket file in person by appointment, please see the FOR FURTHER INFORMATION CONTACT paragraph.

II. Preamble

OVERVIEW: The Office of Juvenile Justice and Delinquency Prevention (OJJDP) is a component of the Office of Justice Programs in the U.S. Department of Justice. Provisions within Section 204 (b)(5)(A) of the Juvenile Justice and Delinquency Prevention Act of 1974, as amended, 42 U.S.C. Sec. 5601 et seq. (JJDP Act) direct the OJJDP Administrator to publish for public comment a Proposed Plan describing the program activities that OJJDP proposes to carry out during FY 2010 under Parts D and E of Title II of the JJDP Act, codified at 42 U.S.C. Sec. 5651-5665a, 5667, 5667a. Because the Office's discretionary activities extend beyond Parts D and E, OJJDP is seeking comments on a more comprehensive listing of the Office's proposed programs. Taking into consideration comments received on this Proposed Plan, the Administrator will develop and publish in the Federal Register OJJDP's Final Plan describing the particular program activities that OJJDP intends to fund during FY 2010.

OJJDP acknowledges that at this time its FY 2010 appropriation is not yet final. Depending on the final appropriation, OJJDP may alter how its programs are structured and modify this Proposed Plan when it is published in final form following the public comment period.

OJJDP will post on its Web site solicitations of grant or cooperative agreement applications for competitive programs to be funded under the Final Plan. OJJDP will notify the public that these solicitations have been posted through issuance of JUVJUSTs (listserv) announcements and other methods of electronic notification. No proposals, concept papers, or other forms of application should be submitted at this time.

Department Priorities: OJJDP has structured this plan to reflect the high priority that the Administration and the Department have placed on addressing youth violence and victimization and improving protections for youth involved with the juvenile justice system. The proposals presented here represent OJJDP's current thinking on how to advance the Department's priorities during this fiscal year. These proposals also incorporate feedback from OJJDP's ongoing outreach to the field seeking ideas on program areas and the most promising approaches for those types of areas. The first section of programs in this proposed plan contains programs that address priority areas as identified by the Attorney General.

OJJDP's Purpose: Congress established OJJDP through the JJDP Act of 1974 to help states and communities prevent and control delinquency and strengthen their juvenile justice systems and to coordinate and administer national policy in this area.

Although states, American Indian/Alaska Native (AI/AN) communities,¹ and other localities retain primary responsibility for administering juvenile justice and preventing juvenile delinquency, OJJDP supports and supplements the efforts of public and private organizations at all levels through program funding via formula, block, and discretionary grants; administration of Congressional earmark programs; research; training and technical assistance; funding of demonstration projects; and dissemination of information. OJJDP also helps administer federal policy related to juvenile justice and delinquency prevention through its leadership role in the Coordinating Council on Juvenile Justice and Delinquency Prevention.

¹ In this plan, the terms “tribes” and “tribal jurisdictions” refer to both American Indian and Alaska Native communities.

OJJDP's Vision: OJJDP strives to be the recognized authority and national leader dedicated to the future, safety, and well-being of children and youth in, or at risk of entering, the juvenile justice system.

OJJDP's Mission: OJJDP provides national leadership, coordination, and resources to prevent and respond to juvenile delinquency and victimization by supporting states, tribal jurisdictions, and communities in their efforts to develop and implement effective coordinated prevention and intervention programs and improve the juvenile justice system so that it protects public safety, holds offenders accountable, and provides treatment and rehabilitation services tailored to the needs of juveniles and their families.

Guiding Principles For OJJDP's National Leadership: OJJDP provides targeted funding, sponsors research and demonstration programs, offers training and technical assistance, disseminates information, and uses technology to enhance programs and collaboration in exercising its national leadership. In all of these efforts, the following four principles guide OJJDP:

(1) Empower communities and engage youth and families.

(2) Promote evidence-based practices.

(3) Require accountability.

(4) Enhance collaboration.

1. Empower communities and engage youth and families. Families and communities play an essential role in any effort to prevent delinquency and protect children from victimization. Communities must reach beyond the formal systems of justice, social services, and law enforcement to tap into the wisdom and energies of many others—including business leaders, the media, neighborhood associations, block leaders, elected officials, tribal leaders, clergy, faith-based organizations, and especially families and young people themselves—who have a stake in helping local youth become productive, law-abiding citizens. In particular, OJJDP must engage families and youth in developing solutions to delinquency and victimization. Their strengths, experiences, and aspirations provide an important perspective in developing those solutions.

To be effective, collaboration among community stakeholders must be grounded in up-to-date information. With federal assistance that OJJDP provides, community members can partner to gather data, assess local conditions, and make decisions to ensure resources are targeted for maximum impact.

2. Promote evidence-based practices. To make the best use of public resources, OJJDP must identify “what works” in delinquency prevention and juvenile justice. OJJDP is the only federal agency with a specific mission to develop and disseminate knowledge about what works in this field. Drawing on this knowledge, OJJDP helps communities replicate proven programs and improve their existing programs. OJJDP helps communities match program models to their specific needs and supports interventions that respond to the developmental, cultural, and gender needs of the youth and families they will serve.

3. Require accountability. OJJDP requires the national, state, tribal, and local entities whose programs are supported by OJJDP to explain how they use program resources, determine and report on how effective the programs are in alleviating the problems they are intended to address, and propose plans for remediation of performance that does not meet standards. OJJDP has established mandatory performance measures for all its programs and reports on those measures to the Office of Management and Budget. OJJDP requires its grantees and applicants to report on these performance measures, set up systems to gather the data necessary to monitor those performance measures, and use this information to continuously assess progress and fine-tune the programs.

4. Enhance collaboration. Juvenile justice agencies and programs are just one part of a larger set of systems that encompasses the many agencies and programs that work with at-risk youth and their families. For delinquency prevention and child protection efforts to be effective, they must be coordinated at the local, tribal, state, and federal levels with law enforcement, social services, child welfare, public health, mental health, school, and other systems that address family strengthening and youth development. One way to achieve this coordination is to establish broad-based coalitions to create consensus on service priorities and to build support for a coordinated approach. With this consensus as a foundation, participating agencies and departments can then build mechanisms to link service providers at the program level—including procedures for sharing information across systems.

OJJDP took its guidance in the development of this proposed plan from the priorities that the Attorney General has set forth for the Department. At the same time, OJJDP drew upon its Strategic Plan for 2009-2011. The four primary goals at the heart of OJJDP's Strategic Plan echo the Attorney General's priorities. Those goals are: prevent and respond to delinquency, strengthen the juvenile justice system, prevent and reduce the victimization of children, and create safer neighborhoods by preventing and reducing youth violence.

III. OJJDP Proposed Program Plan for Fiscal Year 2010

Each year OJJDP receives formula and block grant funding as well as discretionary funds for certain program areas. Based on the 2009 appropriation and the 2010 presidential budget, OJJDP offers the following 2010 Proposed Plan for consideration and comment. Programs are organized according to the Department priorities and traditional OJJDP focus areas.

Department and OJJDP Priorities

Programs To Address and Treat Children Exposed to Violence

OJJDP intends to issue competitive solicitations and provide continuation funding for Safe Start projects to enhance the accessibility, delivery, and quality of services provided young children who have been exposed to violence or who are at high risk. These programs will focus on practice innovation, research and evaluation, training and technical assistance, and resource development and public awareness.

Additionally, OJJDP intends to support a competitive solicitation in Indian Country to implement a tribal component to the Safe Start initiative. The tribal component will engage tribal leaders, law enforcement, courts, and service providers to increase capacity to protect and respond to the needs of children exposed to violence and their families.

Connected with this children's exposure to violence initiative, OJJDP plans to fund a 12-month, full-time fellow position located at OJJDP to focus on children's exposure to violence programming. OJJDP will develop a solicitation to invite individuals interested in working with the Office for a year to apply for consideration. The position is funded via a grant to the fellow's home institution in the amount of their salary and benefit costs for the duration of the fellowship.

Second Chance Reentry Program

OJJDP proposes to fund additional demonstration projects under the Second Chance Act Youth Offender Reentry Initiative, which supports a comprehensive response to the increasing number of people who are released from prison, jail, and juvenile facilities each year and are returning to their communities. The goal of this initiative is to increase public safety and reduce the rate of recidivism for offenders released from a juvenile residential facility. Demonstration projects would provide necessary services to youth while in confinement and following their release into the community. The initiative would provide a particular focus to address the unique needs of girls reentering their communities.

Improving Indigent Juvenile Defense Program

OJJDP proposes funding the development and implementation of a model national technical assistance and training program for juvenile defense attorneys. Forty years ago, the U.S. Supreme Court, in the landmark In Re Gault decision, found that children in the juvenile justice system have the right to an attorney. Today, many young people in the court system, particularly low-income and minority children, lack representation by well-trained and well-resourced lawyers and many juvenile defendants receive no counsel at all. The goal of this proposed initiative is to develop competent juvenile defense attorneys who can work in the best interests of youth facing charges in juvenile court and to improve the judicial system's response.

Community-Based Violence Prevention Programs

OJJDP proposes funding for programs to reduce the risk that youth will be affected by community violence. This program will be closely coordinated with a broader administration initiative. The Reducing Community Violence program will be modeled after the successful Operation CEASEFIRE intervention that is widely credited with significantly reducing homicides in targeted Chicago communities. Operation CEASEFIRE focused on both deterrence strategies, as well as an increase on focused law enforcement activities. This demonstration program will include separate solicitations focusing on research, technical assistance, and evaluation. These programs would be coordinated with the Bureau of Justice Assistance.

Disproportionate Minority Contact

Section 223(a)(22) of the JJDP Act of 2002 requires states to address juvenile delinquency prevention efforts and system improvement efforts to reduce, without establishing or requiring numerical standards or quotas, the disproportionate number of juvenile members of minority groups, who come into contact with the juvenile justice system. States primarily fund delinquency prevention and systems improvements activities through their Title II Formula and Title V Delinquency Prevention Grant funds. OJJDP provides training and technical assistance to the states to support their development of direct services (diversion, alternatives to secure confinement, advocacy, cultural competency training, etc.); legislative reforms; administrative, policy, and procedural changes; structured decisionmaking (detention screening, risk assessment, needs assessment instruments, etc.), and other activities.

Youth Violence and Gang Prevention

Gang Community and Family Support Program

OJJDP expects to fund programs to support multistrategy, multidisciplinary approaches to reducing gang activity. These programs would enhance coordination of local resources in support of community partnerships that address risk factors to gang involvement, including a lack of social and economic opportunities; family disorganization, including broken homes and parental drug/alcohol abuse; and strong commitment to delinquent peers, but low commitment to positive peers. These programs would be coordinated with the Bureau of Justice Assistance.

School-Related Prevention Programs

In FY 2010, OJJDP will seek opportunities to coordinate and collaborate with the U.S. Department of Education on school safety issues and school- and community-wide programs to reduce truancy and keep students in school. In the past, OJJDP has supported comprehensive community-wide initiatives to reduce and prevent school and community violence and foster safe schools. Proposed areas of collaboration may include programs to reduce truancy; prevent bullying, including cyberbullying, which is prevalent among girls; and promote conflict resolution. OJJDP also proposes to collaborate with the Departments of Education and Health and Human Services on the Safe Schools/Healthy Students (SS/HS) Initiative through competitive funding to SS/HS sites to support mentoring programs and strategies aimed at reducing truancy.

Youth Violence Prevention Programs

OJJDP proposes funding a program to foster innovations and advancements in youth violence prevention practices at the community level. The goal of this program is to demonstrate the implications for policy and practice and to enhance juvenile justice, child protection, and delinquency prevention. OJJDP is interested in reducing risk factors and enhancing protective factors to prevent youth from becoming victims of violence. This program would focus on supporting communities in their efforts to develop and implement effective and coordinated violence prevention and intervention initiatives by building protective factors to combat juvenile delinquency, reducing child victimization, and improving the juvenile justice system.

Teen Dating Violence Awareness and Prevention Program

OJJDP proposes funding a program to implement evidence-based strategies, public education and awareness campaigns, and research on teen dating violence. OJJDP may fund a number of competitively selected sites to implement evidence-based teen dating violence programs and coordinate those demonstration programs with the development of public service announcements and other media tools to inform youth and parents about the signs and consequences of such violence. This effort would be coordinated with the Office on Violence Against Women and private funders.

Tribal Youth

Comprehensive Tribal Youth Reentry Initiative

OJJDP proposes funding a program to address the lack of programming within many tribal juvenile detention facilities and to support the development of services to facilitate the successful reentry of youth into their tribal communities. Components of the Comprehensive Tribal Youth Reentry Initiative would include:

• Training of tribal and Bureau of Indian Affairs detention facility personnel in best practices for juvenile detention.

• An array of support services for youth (both while in custody and during the reentry period), including substance abuse and mental health treatment, educational/vocational training, family strengthening, and reunification programming.

• Transitional step-down housing to help tribal youth transition from incarceration back into the community by providing culturally appropriate wrap-around services.

Tribal Youth Reconnection Program

OJJDP proposes an initiative that would fund federally recognized tribes and/or colleges and universities to engage at-risk tribal youth in activities centered on cultural preservation, land reclamation, or green/sustainable tribal traditions. This experiential learning program would focus on tribal youth who are chronically truant or who are at risk of dropping out of school. Youth would learn from tribal elders, anthropologists, historians, forestry experts, and others with the appropriate expertise. The focus of the activity would differ depending on the tribal community and youth population. Examples of activities may include identifying and documenting tribal artifacts, recording tribal histories and stories, taking part in reforestation efforts, and building and installing wind turbines.

Tribal Enforcing Underage Drinking Laws Program

OJJDP proposes funding a Tribal EUDL Program to support participating federally recognized tribes' development of a long-term strategic plan to address underage drinking among tribal youth. Research indicates that many Native American youth begin drinking at a very early age. The program would support planning and training that balances an appropriate cultural approach, health education, and enforcement that holds adults and youth accountable for their behavior.

Tribal Field-Initiated Research and Evaluation Program

OJJDP proposes funding field-initiated studies to further understanding regarding the experiences, strengths, and needs of tribal youth, their families, and communities and what works to reduce their risks for delinquency and victimization. This initiative is especially interested in evaluations that identify effective and promising delinquency prevention, intervention, and treatment programs for tribal youth, including those that assist tribal youth in enhancing their own cultural knowledge and awareness.

Tribal Youth Program

OJJDP expects to fund the Tribal Youth Program, which supports and enhances tribal efforts to prevent and control delinquency and improve their juvenile justice systems. Grantees will develop and implement efficient and effective delinquency prevention programs, interventions for court-involved youth, improvements to the juvenile justice system, alcohol and substance abuse prevention programs, and emotional/behavioral program services.

Preventing Violence Against Native American Girls

OJJDP proposes using Tribal Youth Program funds to support communities in developing effective strategies to reduce the abuse and exploitation of Native American girls. This program would engage girls, tribal leaders, law enforcement, courts, and service providers to better protect and respond to the needs of Native American girls at risk of victimization by family members, adults who exploit children, and dating partners. This program would be coordinated with the work of the Office on Violence Against Women and agency experts in tribal issues and child victimization.

Strengthening Initiative for Native Girls (SING)

OJJDP proposes funding an initiative to strengthen the skills and resilience of American Indian girls to resist substance abuse, prevent teen pregnancy, foster positive relationships with peers and adults, learn self-advocacy, and build pro-social skills, with the goal of preventing victimization and delinquency. Examples of components would include:

• Culturally appropriate implementation of existing evidence-based girls programs, such as Girls Circle, Girls, Inc., etc.

• A Girls Leadership Institute, a year-long immersion program for girls that exposes them to different careers and ways to take an active role in their community.

• A mentoring program for college age tribal girls.

• Mental health and substance abuse services.

• Implementation of the Nurse-Family Partnership in tribal communities.

This initiative would include an evaluation component to test whether programs that have been proven to work in other communities can be replicated successfully in Indian Country.

Girls' Delinquency

Evaluations of Girls' Delinquency Programs

OJJDP proposes funding programs to document and measure the effectiveness of delinquency prevention, intervention, and/or treatment programs to prevent and reduce girls' risk behavior and offending. Over the past 2 decades, the number of girls entering the juvenile justice system has dramatically increased. This trend raised a number of questions for OJJDP, including whether this reflected an increase in girls' delinquency or changes in society's responses to girls' behavior. OJJDP's Girls Study Group recently completed a review of evaluations of girls' delinquency programs and found that most programs have not been evaluated, thereby limiting knowledge regarding the most appropriate and effective programs for girls.

National Girls Institute

OJJDP proposes funding a National Girls Institute to evaluate promising and innovative prevention, intervention, treatment, education, detention, and aftercare services for delinquent and at-risk girls. The Institute would promote integrated and innovative programs that use a comprehensive service delivery system to meet the unique developmental and cultural needs of girls and their families. The Institute would provide training, technical assistance, research, information dissemination, collaboration, policy development, and other leadership functions.

Research, Evaluation, and Data Collection

The National Children's Study

OJJDP proposes contributing funds to a new longitudinal study that will examine the effects of environmental influences on the health and development of 100,000 children across the United States, following them from before birth until age 21. The National Institute of Child Health and Development is the lead agency for this study, and other federal agencies that have joined in planning and conducting this study include the National Institute of Environmental Health Sciences, Centers for Disease Control and Prevention, and U.S. Environmental Protection Agency. OJJDP expects to expand what is known regarding delinquency prevention, intervention, and treatment.

Field-Initiated Research and Evaluation Program

OJJDP proposes providing flexible funding for creative yet rigorous research and evaluation that advances OJJDP's mission to prevent and respond to juvenile delinquency and victimization. OJJDP will seek applications addressing a broad range of research and evaluation topics and methodologies in the fields of delinquency prevention, intervention, and treatment. This includes studies that address issues around child victimization.

Juvenile Justice Evaluation Center

OJJDP proposes funding a program that would provide training and technical assistance to state, tribal, local, and non-profit entities that work in the juvenile justice and victimization field on how to prepare for and carry out an evaluation of their activities. The Juvenile Justice Evaluation Center would develop easily accessible tools and resources for the field and would assist these agencies in developing evidence-based strategies and programs.

National Juvenile Justice Data Collection Program

OJJDP intends to continue support for several key national juvenile data collection programs, some of which have existed for several years, and others which are new. These include:

• Census of Juveniles in Residential Placement, which collects information about all youth residing in facilities who are awaiting or have been adjudicated for a status or delinquent offense.

• Juvenile Residential Facility Census, which collects information about the security and services of facilities that hold youth for delinquent offenses, pre- and post- adjudication.

• Census of Juveniles on Probation, which collects a 1-day count of all youth on formal probation, including demographic characteristics and the offense for which they are being supervised.

• Census of Juvenile Probation Supervision Offices, which collects information about the offices that oversee the youth who are on probation in the United States.

Substance Abuse and Treatment

Family and Juvenile Drug Court Programs

OJJDP anticipates providing funding to support the implementation of family drug courts that serve substance-abusing adults who are involved in the family dependency court system, as a result of child abuse or neglect. The Center for Children and Family Futures will provide training and technical assistance to family drug courts.

OJJDP expects to continue funding jointly with the Department of Health and Human Services' Center for Substance Abuse Treatment (CSAT) to enhance the capacity of existing juvenile drug courts to serve substance-abusing juvenile offenders through the integration and implementation of the juvenile drug court and the Reclaiming Futures program models. The National Council of Juvenile and Family Court Judges provides training and technical assistance for OJJDP's juvenile drug court initiatives.

Enforcing Underage Drinking Laws Program

OJJDP expects to continue funding the Enforcing Underage Drinking Laws Program through its four components: block grants to the 50 states, the 5 territories, and the District of Columbia; discretionary grants; technical assistance; and research and evaluation. Under the block grant component, each state, the District of Columbia, and the territories receive approximately $360,000 annually to support law enforcement activities, media campaigns, and coalition building. The EUDL discretionary grant component supports several initiatives to help communities develop a comprehensive approach to address underage drinking. EUDL training and technical assistance supports communities and states in their efforts to enforce underage drinking laws. EUDL funds also support evaluations of several EUDL community initiatives.

Enforcing Underage Drinking Laws Assessment, Strategic Planning, and Implementation Initiative

OJJDP proposes the establishment of a discretionary component of the Enforcing Underage Drinking Laws (EUDL) program that enables states to implement an assessment, strategic planning, and implementation process. Applicants will explain how they will assess local conditions and design a long-term strategic plan; implement selected and approved actions of that plan; collect, analyze, and report data; and have an expert panel assess how the state responded to the recommendations, crafted its strategic plan, and implemented portions of the plan with the remaining funds.

Mentoring

Mentoring and Community Engagement

OJJDP seeks to support mentoring programs that utilize a strengths-based, community engagement approach. Research suggests that programs in which the mentor and mentee work together to address a social issue, participate in community service, or become involved in other local civic activities have resulted in reduced delinquency among the mentees and future involvement with their communities. The theoretical framework for this initiative is Positive Youth Development, which focuses on building the strengths of youth to promote the likelihood of positive outcomes.

Mentoring and Juvenile Drug Courts

OJJDP proposes funding to support a mentoring component to the Juvenile Drug Court/Reclaiming Futures Program. A structured mentoring component would provide youth participating in a drug court with a caring and supportive adult mentor who would share information and insight, listen to the youth, and provide encouragement. Incorporating a mentoring component would build upon the existing partnership with Reclaiming Futures/Robert Wood Johnson Foundation and CSAT.

National and Local Youth Mentoring Programs and Training and Technical Assistance

OJJDP anticipates providing funding to support national organizations that have mentoring programs ready for implementation that will strengthen and expand existing mentoring activities. OJJDP provides training and technical assistance to advance the capacity of state and local jurisdictions and Indian tribal governments to develop, implement, expand, evaluate, and sustain youth mentoring efforts that incorporate research-based findings of best practices and principles.

OJJDP also anticipates funding local faith- and community-based organizations and schools to develop, implement, and expand neighborhood mentoring programs and to increase communities' capacity to develop and implement mentoring programs and provide mentoring services, particularly to populations of at-risk youth who are underserved due to location, shortage of mentors, special physical or mental challenges, or other situations identified by the community in need of mentoring services.

Child Victimization

Children's Advocacy Centers

OJJDP intends to provide continuation funding to programs that improve the coordinated investigation and prosecution of child abuse cases. These programs include funding for a national subgrant program for local children's advocacy centers, a membership and accreditation program, regional children's advocacy centers, and specialized technical assistance and training programs for child abuse professionals and prosecutors. Local Children's Advocacy Centers utilize multidisciplinary teams of professionals to coordinate the investigation, treatment, and prosecution of child abuse cases.

Court Appointed Special Advocate Programs

OJJDP expects to provide continuation funding to support Court Appointed Special Advocates (CASA) programs across the country. CASA programs provide children in the foster care system or at risk of entering the dependency system with high-quality, timely, effective, and sensitive representation before the court. CASA programs train and support volunteers who advocate for the best interests of the child in dependency proceedings. OJJDP funds a national CASA training and technical assistance provider and a national membership and accreditation organization to support state and local CASA organizations' efforts to recruit volunteer advocates, including minority volunteers, and to provide training and technical assistance to these organizations and to stakeholders in the child welfare system.

Missing Children

Missing Children Programs and Services

OJJDP intends to provide continuation funding to a national membership organization for nonprofit organizations serving the families of missing children and to assist in identifying and promulgating best practices in serving these children and families.

In FY 2010, OJJDP also expects to award funding to programs that:

• Provide training and technical assistance to local, state, and tribal law enforcement agencies and other organizations charged with responding to missing children cases.

• Design and implement the 2010 AMBER Alert National Conference.

• Improve responses to child abductions across borders.

• Conduct research on children characterized as lost, injured, or missing to improve community responses to these cases.

• Conduct a national study of the incidence of missing children.

Missing and Exploited Children Training and Technical Assistance Program

OJJDP expects to fund a program to design and implement training in areas such as child abuse investigations, child fatality investigations, and child sexual exploitation investigations. Authorized by the Missing Children's Assistance Act, this program will help state and local law enforcement, child protection, prosecutors, medical providers, and child advocacy center professionals develop an effective response to child victimization cases.

Child Exploitation

Internet Crimes Against Children Program

OJJDP intends to make continuation awards to support the operations of the 61 Internet Crimes Against Children (ICAC) task forces. The ICAC Task Force Program helps state and local law enforcement agencies develop an effective response to sexual predators who prey upon juveniles via the Internet and other electronic devices, and child pornography cases. This program encompasses forensic and investigative components, training and technical assistance, victim services, and community education.

In addition, OJJDP intends to issue competitive solicitations for related ICAC activities and programs, including:

• Designing and implementing the 2011 ICAC National Training Conference.

• Research on Internet and other technology-facilitated crimes against children.

• Training for ICAC officers, prosecutors, judges, and other stakeholders.

• Technical assistance to support implementation of the ICAC program.

Project Safe Childhood Community-Based Programs

OJJDP proposes to issue one or more competitive solicitations to support the goals of Project Safe Childhood. This program will solicit proposals to implement community-based strategies and public awareness efforts to protect children from online sexual exploitation. OJJDP will focus 2010 projects on emergent topics, such as sexting, cyber bullying, and self-production of child pornography. OJJDP may solicit competitive proposals from communities working in conjunction with U.S. Attorneys' Offices to create or disseminate public education and awareness strategies within their respective jurisdictions.

Project Safe Childhood National Training Conference

OJJDP proposes funding to support the design and implementation of the 2010 National Project Safe Childhood Conference. The conference will provide law enforcement, prosecutors, youth-serving organizations, and state and local agencies training on Project Safe Childhood. Conference content will include training on investigative techniques, reviews of research on the scope and prevalence of child exploitation, successful community awareness/education strategies, and examples of multidisciplinary coordination to reduce youth risk and hold offenders accountable.

High-Risk Runaway Program

OJJDP proposes to fund strategies to address the problem of chronic runaway juveniles who are exploited sexually for commercial gain or who are at risk of such exploitation. OJJDP intends to identify best practices for dealing with high-risk victims that support a victim centered approach. This program provides an opportunity for communities to replicate successful strategies to protect these youth. Children and youth who leave and remain away from home without parental permission are at risk of developing and have a disproportionate share of serious health, behavioral, and emotional problems.

Young Sexual Offenders Program

OJJDP proposes to fund a program to assist localities in responding to instances of child sexual victimization by perpetrators who are younger than 18 years old, with a specific emphasis placed on interfamilial child victims and offenders. The program will develop communities' capacity to utilize a multidisciplinary approach when working with children who have been sexually abused by other children and adolescents. The program will also build communities' capacity to provide treatment and supervision resources to youthful perpetrators of sexual abuse against children. This program would be coordinated with OJP's Sex Offender Sentencing, Monitoring, Apprehending, Registering, and Tracking (SMART) Office.

Juvenile Justice System Improvement

National Juvenile Delinquency Court Improvement Program

OJJDP proposes funding grants to judicial administrative authorities to implement the “Sixteen Key Principles of a Juvenile Delinquency Court of Excellence.” The National Council of Juvenile and Family Court Judges developed these principles in close consultation with OJJDP and approximately 100 experts. The initiative would be modeled on the U.S. Department of Health and Human Services' State Court Improvement Program, which has been instrumental in the nationwide implementation of comprehensive systemic improvements to courts' handling of child abuse and neglect or dependency cases.

National Training and Technical Assistance Center for Youth in Custody

OJJDP proposes funding an organization or partnership of organizations to provide an array of technical assistance and training services for state, tribal, local, non-profit, and other youth serving organizations that handle youth in custody and youth being released from custody. This initiative would also cover organizations that provide reentry services (pre-release planning, transitional placement, community services).

Programs To Address the Mental and Physical Needs of Youth in the Juvenile Justice System

OJJDP proposes to work with states to explore innovative approaches to address the mental and physical needs of youth in the juvenile justice system. These programs would focus on providing mental health and physical health services for incarcerated juveniles who may need mental and physical assessments, development of individualized treatment and discharge plans, and the identification and provision of aftercare services.

Programs To Improve Dependency Courts' Handling of Child Abuse and Neglect Cases

OJJDP expects to provide continuation funding to programs that provide training and technical assistance to judicial and court personnel who work within the dependency system. The purpose of this initiative is to improve the juvenile and family courts' handling of child abuse and neglect cases and ensure timely decisionmaking in permanency planning for abused and neglected children. The initiative also aims to reduce and eventually eliminate racial disproportionality and disparate treatment in the dependency system.

General

Field-Initiated Demonstration Programs

OJJDP proposes awarding grants to programs that foster innovations and advancements in juvenile justice-related practice at the local, state, and tribal government levels. This program would be part of the Office's comprehensive effort to support programs that demonstrate the practical implications for policy, practice innovative approaches, and enhance juvenile justice and delinquency prevention. This program would address a broad range of juvenile justice-related issues that support the mission of OJJDP.

Support for Conferences on Juvenile Justice Issues

OJJDP intends to support conferences that address juvenile justice and the prevention of delinquency. This support would provide community prevention leaders, treatment professionals, juvenile justice officials, researchers, and practitioners with information on best practices and research-based models to support state, local government, and community efforts to prevent juvenile delinquency.

Dated: November 24, 2009.
Melodee Hanes,
Acting Deputy Administrator for Policy, Office of Juvenile Justice and Delinquency Prevention.

[FR Doc. E9-28743 Filed 11-30-09; 8:45 am]

BILLING CODE 4410-18-P